NATIONAL COUNCIL ON DISABILITY

Sunshine Act Meetings

TIME AND DATES: The Members of the National Council on Disability (NCD) will meet by phone on Wednesday, September 7, 2011, 1-3 p.m., ET.

PLACE: The meeting will occur by phone. NCD staff will participate in the call from the NCD office at 1331 F Street, NW., Suite 850, Washington, DC 20004. Interested parties may join the meeting in person at the NCD office or may join the phone line in a listening-only capacity using the following call-in information: Call-in number: 1-888-819-8001; Passcode: 3417257; Meeting Name: NCD Meeting. If asked, the conference call's leader's name is Aaron Bishop.

MATTERS TO BE CONSIDERED: The Council will meet by phone to discuss the budgets for fiscal years 2012 and 2013 as well as the agency's Performance and Accountability Report (PAR).

CONTACT PERSON FOR MORE INFORMATION: Anne Sommers, NCD, 1331 F Street, NW., Suite 850, Washington, DC 20004; 202-272-2004 (V), 202-272-2074 (TTY).

ACCOMMODATIONS: Those who plan to attend and require accommodations should notify NCD as soon as possible to allow time to make arrangements.

Dated: August 25, 2011.
Aaron Bishop,
Executive Director.

[FR Doc. 2011-22202 Filed 8-26-11; 11:15 am]

BILLING CODE 6820-MA-P